FEDERAL COMMUNICATIONS COMMISSION

47 CFR Part 64

[CG Docket Nos. 10-51 and 03-123; FCC 17-26]

Structure and Practices of the Video Relay Services Program

AGENCY: Federal Communications Commission.

ACTION: Final rule.

SUMMARY: In this document, the Commission takes steps to further improve the quality of video relay service (VRS) by authorizing skills-based routing and deaf-interpreter trials, directing the publication of speed-of-answer data, permitting assignment of ten-digit telephone numbers to hearing persons for point-to-point video communication in sign language with VRS users, and authorizing a pilot program in which some VRS calls are interpreted by communications assistants (CAs) at home workstations.

DATES: Effective dates: Effective May 15, 2017, except for § 64.604(b)(8) and amendments to §§ 64.604(b)(4)(iii), 64.611, 64.615, 64.630, 64.5101, and 64.5103 of the Commission's rules, which contain modified information collection requirements that have not yet been approved by the Office of Management and Budget (OMB) under the Paperwork Reduction Act. The Commission will publish a document in the Federal Register announcing the effective date of those amendments.

Applicability dates: The skills-based routing and deaf-interpreter trials will commence on August 1, 2017, and terminate March 31, 2018. The pilot program for at-home VRS call handling will commence on November 1, 2017, and end on November 1, 2018.

FOR FURTHER INFORMATION CONTACT: Bob Aldrich, Consumer and Governmental Affairs Bureau (202) 418-0996, email Robert.Aldrich@fcc.gov, or Eliot Greenwald, Consumer and Governmental Affairs Bureau, (202) 418-2235, email Eliot.Greenwald@fcc.gov.

SUPPLEMENTARY INFORMATION: This is a summary of the Commission's Report and Order, document FCC 17-26, adopted on March 23, 2017, and released on March 23, 2017, in CG Docket Nos. 10-51 and 03-123. The Notice of Inquiry and Further Notice of Proposed Rulemaking, FCC 17-26, adopted on March 23, 2017, and released on March 23, 2017, was published in an earlier issue, and the Order, FCC 17-26, adopted on March 23, 2017, and released on March 23, 2017, will be published in a later issue. The full text of document FCC 17-26 will be available for public inspection and copying via the Commission's Electronic Comment Filing System (ECFS), and during regular business hours at the FCC Reference Information Center, Portals II, 445 12th Street SW., Room CY-A257, Washington, DC 20554. To request materials in accessible formats for people with disabilities (Braille, large print, electronic files, audio format), send an email to fcc504@fcc.gov or call the Consumer and Governmental Affairs Bureau at (202) 418-0530 (voice), (844) 432-2272 (videophone), or (202) 418-0432 (TTY).

Congressional Review Act

The Commission will send a copy of document FCC 17-26 to Congress and the Government Accountability Office pursuant to the Congressional Review Act, see 5 U.S.C. 801(a)(1)(A).

Final Paperwork Reduction Act of 1995 Analysis

The Report and Order in document FCC 17-26 contains modified information collection requirements, which are not applicable until approval is obtained from OMB. The Commission, as part of its continuing effort to reduce paperwork burdens, will invite the general public to comment on the information collection requirements contained in document FCC 17-26 as required by the Paperwork Reduction Act (PRA) of 1995, Public Law 104-13. The Commission will publish a separate document in the Federal Register announcing approval of the information collection requirements contained in the document FCC 17-26 Report and Order. In addition, the Commission notes that, pursuant to the Small Business Paperwork Relief Act of 2002, Public Law 107-198, 44 U.S.C. 3506(c)(4), the Commission previously sought comment on how the Commission might “further reduce the information burden for small business concerns with fewer than 25 employees.” Structure and Practices of the Video Relay Service Program; Telecommunications Relay Services and Speech-to-Speech Services for Individuals with Hearing and Speech Disabilities, Further Notice of Proposed Rulemaking, published at 78 FR 40407, July 5, 2013 (2013 VRS Reform Order FNPRM); Structure and Practices of the Video Relay Service Program; Telecommunications Relay Services and Speech-to-Speech Services for Individuals with Hearing and Speech Disabilities, Further Notice of Proposed Rulemaking, published at 80 FR 72029, November 18, 2015 (2015 VRS FNPRM).

Synopsis

Trial of Skills-Based Routing

1. The Commission authorizes a voluntary trial of skills-based routing by any of the currently certified VRS providers, for calls pertaining to legal, medical, and technical computer support, to be conducted for a period of eight months under the conditions set forth below. There are currently five companies with Commission certification to receive compensation from the Interstate Telecommunications Relay Services Fund (TRS Fund) for providing VRS. The Commission may authorize additional VRS providers to participate in the trial in the event that any new providers apply for and are granted certification before the end of the trial.

2. The Commission is persuaded that enabling consumers to have conversations relayed by interpreters skilled in the vocabulary of these subjects can contribute to achieving functional equivalence in accordance with the goals of 47 U.S.C. 225. The Commission believes that skills-based routing may increase the efficiency of VRS by reducing the duration of calls and the need for duplicative calls. Additionally, the Commission believes it can facilitate compliance with each provider's obligation to ensure that its CAs can interpret effectively and accurately, both receptively and expressively, using any necessary specialized vocabulary.

3. Consumer groups identify the three skills listed above as those most commonly needed. The Commission will limit the trial to these three categories, in order to provide relatively clear-cut criteria for the types of calls that qualify, to maximize the usefulness of the data to be collected, and to provide a circumscribed test case to help the Commission identify and address issues if skills-based routing is permitted on a permanent basis. VRS providers participating in the trial may offer one, two, or all three types of specialized interpretation. Permitting a voluntary trial will allow VRS providers to individually determine whether and how extensively to participate, depending on how skills-based routing fits into their respective budgets and business plans. The Commission further expects that an eight-month period will be sufficient to gather data on the costs and benefits of skills-based routing and to enable the Commission to develop informed rules and policies governing this feature if it is later authorized on a permanent basis.

4. To allow sufficient time for the design of each provider's individual trial, the Commission directs that the formal trial period commence August 1, 2017, and terminate March 31, 2018. Providers interested in participating in the trial must provide notification of their intent to participate to the Commission's Consumer and Governmental Affairs Bureau (CGB) by June 1, 2017, including a description of the standards they will use to determine whether a particular CA may handle each type of skills-based call. Such notification may be sent by email to TRSreports@fcc.gov. The Commission declines at this time to restrict the trial to a specified number of consumers because selecting a limited subset of customers could pose technical issues and be perceived as unfair to those customers not selected. In addition, larger-scale trials will provide the Commission with more data to aid in the Commission's assessment of a skills-based routing feature. The results of a trial in which each provider determines the scale of its participation may also provide information about the competitive aspects of offering this feature to inform future Commission decisions about how to structure skills-based routing in the future.

5. For the duration of the trial, all participating VRS providers will continue to be compensated at the applicable rate for compensable minutes of use whether handled by a generalist or specialist CA.

6. Rule Waivers. To enable the Commission to gather data on the costs and benefits of skills-based routing and develop informed rules governing this practice should it be authorized in the future, the Commission conditionally waives, for the duration of the trial, (1) the requirement to answer calls in the order received, (2) the speed-of-answer rule, (3) the ten-minute rule, and (4) the sequential call rule. With these waivers, calls routed to specialized interpreters will qualify for per-call compensation from the Fund, provided that such calls are handled in accordance with the conditions below and all non-waived mandatory minimum standards.

7. Answer-in-the-Order Received Waiver. For purposes of this eight-month trial, a limited waiver of the requirement to answer calls in the order received under the conditions described herein is necessary to enable VRS users to effectively benefit from the availability of skills-based CAs. Waiver of this rule will allow providers, to the extent technically feasible, to give VRS users the option of selecting a specialist CA at various points in the course of processing a call, e.g., prior to initially being connected to the VRS provider, during the call set-up with the CA, or after all parties to the call have been connected—even if this entails providing a specialized CA out of the order that calls seeking other types of specialized CAs are received. However, the “answer-in-the-order” rule will still apply within each subset of CA expertise, so that if two individuals both request the same type of specialized interpreting, each of their requests must be addressed in the order received. Nor do we waive the related prohibitions disallowing advance reservations and “call back” arrangements for VRS. Moreover, the Commission does not authorize VRS providers or users to treat skills-based routing of VRS calls as a substitute for in-person or video remote interpreting when medical, legal, and computer professionals need to communicate in person with their patients and clients.

8. Speed-of-Answer Waiver. The Commission waives the speed-of-answer rule, which requires that 80 percent of all VRS calls be answered within 120 seconds, measured monthly, for calls routed to specialized interpreters during the eight-month duration of the skills-based routing trial. The Commission will permit providers to give callers wait-time estimates for the provider's skills-based and generalist queues, in addition to offering callers the option of switching out of a skills-based routing queue and into the generalist queue if the caller decides that the wait for a specialized CA is too long.

9. Ten Minute Rule Waiver. To enable providers to reserve interpreters who have specialized skills for those individuals who need them, the Commission waives the requirement that the CA remain on the call for a minimum of ten minutes for trial participants in the circumstances described herein. If it becomes apparent during a call that specialized interpretation is not needed, the call may be transferred back to a generalist CA (or the generalist queue) after (1) receiving confirmation from a supervisor that a specialist CA is unnecessary and (2) notifying the caller of the impending transfer. Doing so will allow VRS providers to preserve the scarce resources of specialist CAs and best match the unique skills of these individuals to the callers that need them.

10. Sequential Call Rule Waiver. The Commission waives the sequential call rule, which prohibits CAs from refusing to handle multiple calls in a row from the same caller, in those instances in which, following a specialist call, a consumer asks the CA to place a second call that requires no specialist handling. Waiving this rule in these particular circumstances will help ensure that CAs skilled in medical, legal, or technical terminology remain available for callers in need of such skills to achieve effective communication.

11. Data Collection. To evaluate the demand for and the costs and benefits of skills-based routing, the Commission requires each participating provider to submit to the Fund Administrator, with their monthly requests for compensation, the following data for each month of the trial, disaggregated by each of the three skill set categories:

• The number of CAs available for specialist interpreting and the total number of hours per week that all such CAs were assigned to such function (i.e., total hours in which they were actively engaged in specialist interpreting plus total downtime associated with such interpreting);

• The percentage of active telephone numbers on the American Sign Language (ASL) side and the voice side of calls, respectively, for which a specialist interpreter was used for at least one call;

• The numbers of compensable calls and conversation minutes handled by specialist interpreters;

• Identification within monthly call detail reports (CDRs) of those calls routed or transferred to or from specialized CAs;

• For each call sent to a specialist interpreter or queue, the amount of time that elapsed between a request for a specialist interpreter and the time the interpreter joined the call—i.e., the speed of answering the caller's request; and

• The number of calls for which a specialist interpreter was requested but not provided.

12. The Commission also requires participants to submit, no later than June 1, 2018, a final report on the trial containing the following information, disaggregated by skill set where indicated:

• A description of the standards used to determine (1) whether a specialist interpreter was needed on a call and (2) whether a particular CA was qualified for assignment as a specialist interpreter;

• Detailed documentation of incremental costs incurred in conducting the trial, including any incremental costs associated with CA recruitment, training, and compensation, engineering and technical implementation, marketing, and administrative and management support (including oversight, evaluation, and recordkeeping);

• For providers choosing to notify callers of wait-time estimates, data on such waiting periods, as well as feedback on the benefits and disadvantages of offering this feature; and

• The percentage of requests for specialized interpreting by individuals with disabilities as compared to requests made by hearing individuals.

13. Consideration of whether to allow skills-based routing on a permanent basis also would benefit from the submission by participating providers of studies designed for objective assessment of whether and by how much the accuracy of interpreting improves when calls involving medical, legal, and computer support matters are subject to skills-based routing, with full documentation of the standards and measurement methods used.

14. The Commission requires providers to make all data collected in the trial available upon request to the TRS Fund administrator and the Commission staff. The TRS Fund administrator or the Commission may release the results of the trial in an aggregated or anonymized fashion. All personally identifiable user information gathered for the purposes of the trial shall remain confidential pursuant to the Commission's confidentiality rules.

15. The Commission directs the Office of Managing Director (OMD) and the TRS Fund administrator to consult with each of the providers participating in the trial, to formulate their individual data collection strategies—before the beginning of the trial and as needed during the trial—to ensure that the data collected addresses the categories listed above and is robust enough to provide sufficient basis for a Commission decision on whether to permit skills-based routing on a permanent basis, as well as how to address any issues that surface during the trial.

Trial of Deaf Interpreters

16. Based on the record in this proceeding, for the same eight-month trial period used for assessing skills-based routing, the Commission conducts a voluntary trial of the provision of deaf interpreters for VRS calls under the conditions set forth below.

17. The Commission is interested in studying whether deaf interpreters improve VRS efficiency and functional equivalency, but presently lacks sufficient information about the demand for, as well as the costs and benefits of, providing deaf interpreters in the VRS setting. The Commission believes that the collection of this and other data over an eight-month period will help inform it about whether and how the provision of such interpreters should be included in allowable costs or otherwise subject to compensation from the TRS Fund.

18. Providers interested in participating in the trial should provide notification of their intent to participate to CGB by June 1, 2017, including a description of the standards they will use to determine whether a deaf interpreter was needed for a call and whether a particular individual is qualified for assignment as a deaf interpreter. Such notification may be sent by email to TRSreports@fcc.gov. Participating providers are requested to submit to the Fund Administrator, with their monthly requests for compensation, the following data for each month of the trial:

• The number of deaf interpreters utilized and the total number of hours for which all such interpreters were employed;

• The percentage of active telephone numbers on the ASL side of a call for which a deaf interpreter was added for at least one call;

• The numbers of compensable calls and conversation minutes in which deaf interpreters participated, broken down, to the extent ascertainable by the CA or provider, by whether such participation was necessary due to the user's (1) age, (2) limited English, (3) limited ASL proficiency, (4) cognitive or motor disability, or (5) other characteristics;

• Identification within monthly CDRs of those calls in which deaf interpreters participated;

• For each call on which a deaf interpreter was used, the amount of time that elapsed between a request for a deaf interpreter and the time a deaf interpreter joined the call—i.e., how quickly the provider responded to the caller's request;

• For each call on which a deaf interpreter was used, the duration of the deaf interpreter's presence on the call; and

• The number of calls for which a deaf interpreter was requested but not provided.

19. The Commission also requests participants to submit, no later than June 1, 2018, a final report on the trial containing the following information, disaggregated by skill set where indicated:

• A description of the standards that were used to determine (1) whether a deaf interpreter was needed for a call and (2) whether a particular individual is qualified for assignment as a deaf interpreter; and

• Detailed documentation of incremental costs incurred in the use of deaf interpreters, including any incremental costs associated with interpreter recruitment, training, and compensation, engineering and technical implementation, marketing, and administrative and management support (including oversight, evaluation and recordkeeping).

20. The Commission believes that these metrics will assist the Commission in determining, among other things, the general availability of and appropriate service quality for deaf interpreters, an appropriate speed of answer, whether participation of deaf interpreters results in more efficient calls—e.g., by shortening the length of calls, and whether additional compensation is needed to support the provision of such interpreters.

21. The Commission expects providers to make all data collected in the trial available upon request to the TRS Fund administrator and the Commission staff. The TRS Fund administrator or the Commission may release the results of the trial in an aggregated or anonymized fashion. All personally identifiable user information gathered for the purposes of the trial will be treated as confidential pursuant to the Commission's confidentiality rules.

22. The Commission directs OMD and the TRS Fund administrator to consult with each of the providers participating in the trial, to formulate their individual data collection strategies—before the beginning of the trial and as needed during the trial—to ensure that the data collected addresses the categories listed above and is robust enough to provide sufficient basis for a Commission decision on whether to incorporate deaf interpreters on a permanent basis, as well as how to address any issues that surface during the trial.

23. VRS providers employing deaf interpreters must comply with all applicable mandatory minimum standards. Because a deaf interpreter does not perform all the functions of a CA, but rather provides supplementary assistance, the participation of a deaf interpreter does not necessarily affect a provider's speed of answer or compliance with other telecommunications relay services (TRS) rules. Further, the Commission leaves the parameters of participation in the deaf interpreters trial largely to the discretion of individual providers. For the same reasons discussed above regarding skills-based routing, in any instance where a caller requests a deaf interpreter in advance of placing a call and is subject to additional waiting time before the call can be placed, in excess of the time needed for a hearing CA to be available, the Commission waives the answer-in-the-order-received and speed-of-answer rules with respect to such additional waiting time, for those providers that participate in the trial and who provide timely and accurate reports containing the information specified above, on condition that the provider makes clear that there will be an additional wait and expressly offers to proceed without a deaf interpreter.

Speed of Answer

24. The Commission is persuaded that releasing summaries of each provider's speed-of-answer performance data to the public would be beneficial because it will enable consumers to monitor provider performance and supply valuable information that can assist in their selection of VRS providers. The Commission further believes that in the interest of attracting customers, publication of this data may create incentives for providers to tighten their speed-of-answer performance. Accordingly, the Commission directs OMD, in coordination with CGB, to publish summaries of each VRS provider's speed-of-answer data—obtained from the TRS Fund administrator—on a semi-annual basis on the Commission's Web site. The information published shall not identify individual callers or phone numbers. Notification of the release of such information shall be made by Public Notice. The Commission further directs that such information be prepared for the public in an easy-to-read format, to allow for easy comparisons of provider performance, and that the summaries be accompanied by a statement that the data shown are only averages and do not predict how long it will take for a provider to answer any individual call.

25. Given that VRS users are now able to directly dial their destination number without intervention by a CA, the Commission amends its rules to define when VRS calls are “answered” for the purpose of the speed-of-answer measurement as when a call is answered by a CA—i.e., not when it is put on hold, placed in a queue, or connected to an interactive voice response (IVR) system. Thus, the current formula for assessing compliance will be amended to explicitly state that the call must be answered by a CA, as follows: [(calls unanswered and disconnected by the caller in 45 seconds or less) + (calls answered by a CA in 45 seconds or less)] divided by [all calls (unanswered and answered)].

26. The Commission declines to adopt a self-executing exemption from the speed-of-answer standard for calls occurring as a result of specific extraordinary events beyond a provider's control. The Commission's mandatory minimum standards require all TRS providers to have “redundancy features functionally equivalent to the equipment in normal central offices, including uninterruptable power for emergency use.” However, the Commission also recognizes that at times, there may be exigent circumstances that affect either multiple centers at the same time, or a single center in such an extraordinary way that meeting the speed of answer becomes extremely difficult or impossible, and warrant some flexibility by the Commission. Should this occur, providers may bring such circumstances to the attention of the Commission in the form of a waiver request, which shall be reviewed on its merits on a case-by-case basis. The waiver request shall include a description of the nature of the exigent circumstances, a discussion of what the provider is doing to mitigate the effects of such circumstances, and the average speed-of-answer calculations for the period covered by the waiver request. To ensure that any delay in addressing such requests does not unnecessarily disrupt the provision of compensation, the Commission amends its rules to instruct the TRS Fund administrator not to withhold payment pending review of such waiver requests.

iTRS Numbers for Hearing People

27. The Commission believes that enabling registered VRS users to communicate directly with hearing individuals who can sign not only will conserve the resources of the TRS Fund but also will allow “more natural, efficient, and effective communication” between the deaf and hearing communities. Accordingly, the Commission amends the TRS rules to permit VRS providers to assign ten-digit telephone numbers associated with the TRS Numbering Directory (iTRS numbers) to hearing individuals upon their request, in accordance with the rules adopted herein. VRS providers shall allow such iTRS numbers to be used only for point-to-point video communications and shall not allow them to be used to place or receive VRS calls. Accordingly, it will not be permissible for these numbers to be used for the purpose of contacting 911 services. In order to ensure that there is no such expectation by iTRS number recipients who are hearing, the Commission directs providers who distribute such numbers to provide a clear warning about this limitation.

28. Because the Commission is only permitting, and does not require, VRS providers to assign iTRS numbers to hearing individuals, and because such numbers may not be used to access TRS, the Commission will not permit any costs associated with such number assignment to be included as allowable costs in provider cost data submissions to the TRS Fund administrator at this time. Thus, in VRS providers' annual cost submissions, any incremental costs for number assignment, back-office services, and the like associated with providing iTRS numbers and connectivity to hearing individuals shall be separated from any allowable costs associated with number assignment and point-to-point communications for registered VRS users. Such costs may be recovered from the individuals to whom such numbers are assigned.

29. To aid in the prevention of fraud, waste, and abuse, and to ensure that only residents of the United States have access to point-to-point service via iTRS numbers, the Commission requires that VRS providers obtain from each hearing applicant seeking an iTRS number the individual's full name, residential address, birth date, and a signed self-certification that:

• The individual is proficient in sign language;

• The individual understands that the iTRS number may only be used for the sole purpose of communicating—via point-to-point—over distances with registered VRS users;

• The individual understands that such iTRS number may not be used to access VRS; and

• The individual understands that calls to 911 are not supported by such iTRS number.

30. In addition to transmitting the above information, the Commission requires each VRS provider to deliver the following to the TRS User Registration Database (TRS-URD) administrator:

• Each iTRS number assigned in the TRS Numbering Directory to hearing persons;

• The VRS provider's name and dates of service initiation and termination (as applicable); and

• The date on which an iTRS number was assigned to or removed from a hearing person.

31. To ensure that restrictions on the use of these numbers can be implemented and enforced, the Commission requires each default provider distributing an iTRS number to a hearing individual to notify both the TRS Numbering Directory and the TRS-URD that the individual is a hearing person who is not entitled to place or receive VRS calls. Such numbers shall be coded in the TRS-URD and TRS Numbering Directory as restricted numbers that may only be used for point-to-point calls. VRS providers are prohibited from seeking compensation for any call involving an iTRS number assigned to a hearing individual.

32. The Commission requires providers to make all information collected to address the above requirements available upon request to the TRS Fund administrator and the Commission staff. All personally identifiable user information gathered for this purpose shall remain confidential pursuant to the Commission's confidentiality rules.

At-Home VRS Call Handling

33. The Commission amends its rules to authorize a voluntary pilot program of at-home VRS call handling, subject to specified safeguards, for a twelve-month period, beginning November 1, 2017, and ending November 1, 2018. During this period, in any month of the program, a participating VRS provider may be compensated for minutes served by at-home CA workstations up to a maximum of either 30 percent of a VRS provider's total minutes for which compensation is paid in that month or 30 percent of the provider's average monthly minutes for the 12 months ending October 31, 2017, whichever is greater. This is a limitation on the minutes handled at-home that will be subject to compensation; however, exceeding this limit during the pilot program period will not result in penalties and forfeitures. The Commission will gather data as the pilot proceeds, to inform a final determination on whether to make this program permanent. The Commission will permit any of the currently certified VRS providers to participate in this pilot, subject to Commission approval of their plans for participation and the conditions specified below.

34. The Commission believes that with current technology and experienced CAs, VRS providers likely can protect against waste, fraud, and abuse, and comply with the Commission's mandatory minimum standards while effectively handling VRS calls from CA at-home workstations. This approach aligns with current practices across industry and government sectors that permit at-home communications-related work under strict confidentiality standards. CA workstations, whether located in a call center or at home, can be integrated in a virtual system in which call handling protocols apply seamless capabilities and failover procedures to ensure that quality standards are met at every workstation regardless of its location.

35. Safeguards for At-Home Workstations. To protect against waste, fraud, and abuse, guarantee call confidentiality, and ensure compliance with the Commission's rules and orders governing TRS, during the trial the Commission requires VRS providers to adhere to the following safeguards for all of their at-home CA workstations. The Commission also expects these providers to respond as quickly as they are able to any indications that their at-home CAs or workstations may not be meeting these safeguards or any of the Commission's TRS standards.

36. Personnel Safeguards. Providers must ensure that CAs working from at-home workstations have the skills, experience, and knowledge to effectively handle the wide range of communications that take place over VRS. To achieve this, the Commission requires participating VRS providers to comply with the following safeguards:

• Before permitting CAs to handle calls from an at-home workstation, VRS providers must ensure that they have a level of experience, skills, and knowledge to effectively interpret from these workstations, including a thorough understanding of the Commission's mandatory minimum standards. This can be measured, for example, by having providers conduct tests or assessments of a CA's capabilities and knowledge prior to permitting participation in the program.

• To provide a measure of added assurance that CAs working at home have sufficient experience, skills, and knowledge to work without in-person supervision, any CA permitted to work at home first must have three years of experience as a call center CA.

• Before authorizing at-home workstations, VRS providers must establish protocols for the handling of calls from these stations (to the extent there are additional protocols that differ from those applicable to the provider's call centers) and must provide training to at-home CAs on such protocols, in addition to all applicable training that is required of CAs working from call centers.

• Before being permitted to work at home, CAs must certify to the provider in writing their understanding of and commitment to complying with the Commission's rules governing TRS, including rules governing caller confidentiality and fraud prevention.

• VRS providers must provide CAs working from at-home workstations equivalent support to that provided to their counterparts working from call centers, as needed to effectively handle calls, including, where appropriate, the opportunity to team interpret and consult with supervisors. Supervisors located at call centers must be readily available to CAs working from home to resolve problems that may arise during a relay call, such as difficulty in understanding a VRS user's signs, the need for added support for emergency calls, and relieving a CA in the event of the CA's sudden illness.

• Each provider shall establish grounds for dismissing a CA from the at-home program (i.e., for noncompliance with the Commission's at-home call handling safeguards and rules governing TRS), including a process for such termination in the event that the CA fails to adhere to these requirements. Such grounds and process must be put in writing and provided to each CA participating in the pilot program. CAs must certify as to their understanding of the reasons and process for such dismissal.

37. Technical and Environmental Safeguards. The home environment used to handle VRS calls must meet certain standards to ensure the provision of confidential and uninterrupted services to the same extent as the provider's call center. VRS providers must also ensure that at-home CAs are seamlessly integrated into their call routing, distribution, tracking, and support systems. This will help ensure that VRS providers have the same level of oversight over an at-home CA workstation as a CA workstation in a call center. To achieve this and to ensure compliance with the Commission's minimum standards, the Commission requires the following safeguards:

• Each at-home workstation shall reside in a separate, secure location in the CA's home, where access is restricted solely to the CA.

• Each at-home workstation shall allow a CA to use all call-handling technology to the same extent as other CAs, including the ability to transition a non-emergency call to an emergency call, engage in virtual teaming with another CA, and allow supervisors to communicate with and oversee calls.

• VRS providers shall ensure that each at-home workstation is capable of supporting VRS in compliance with the Commission's mandatory minimum technical and emergency call handling standards, including the provision of system redundancy, and other safeguards to the same degree as these are available at call centers, and including the ability to route VRS calls around individual CA workstations in the event they experience a network outage or other service interruption.

• Each at-home workstation shall be equipped with an effective means to prevent eavesdropping, such as white noise emitters or soundproofing, and to ensure that interruptions from noises outside the room do not adversely affect a CA's ability to interpret a call accurately and effectively.

• Each CA workstation must connect to the provider's network over a secure connection to ensure caller privacy.

38. Monitoring and Oversight Obligations. The Commission requires the following additional measures in order to appropriately monitor and oversee the at-home call handling pilot program:

• To ensure CA compliance with the enumerated safeguards, VRS providers shall inspect and approve each at-home workstation before activating a CA's workstation for use.

• The VRS provider shall assign a unique call center identification number (ID) to each VRS at-home workstation and use this call center ID to identify all minutes handled from each such workstation in its call detail records submitted monthly to the TRS Fund administrator.

• Each at-home workstation shall be equipped with monitoring technology sufficient to ensure that off-site supervision approximates the level of supervision at the provider's call center, including the ability to monitor both ends of a call, i.e., video and audio, to the same extent as is possible in a call center. Although the Commission does not dictate the form of such monitoring, the Commission notes that commenters suggest an external camera with a view of the CA's workspace and tracking software that is capable of recording CA actions and producing reports that can be analyzed for anomalies. To the extent that this method is used, providers shall regularly analyze such data to proactively address possible waste, fraud, and abuse.

• Each provider shall keep all records pertaining to at-home work stations, including the data produced by any at-home workstation monitoring technology, except for any data that records the content of an interpreted conversation, for a minimum of three years. At-home workstations and workstation records shall be subject to review, audit, and inspection by the Commission and the Fund administrator to the same extent as data produced from other call centers subject to the Commission's rules.

• Each provider must conduct random and unannounced inspections of at least five percent (5%) of all at-home workstations during the pilot program and report its findings as specified below. In addition, each at-home work environment may be subject to unannounced on-site inspections by the Commission.

• Each at-home workstation will be subject to audits to the same extent as other call centers subject to the Commission's rules.

39. Participation in the Pilot Program. Each currently certified VRS provider interested in participating in the pilot program must provide notification to the Commission of its intent to participate to CGB by September 1, 2017, together with a detailed plan of how it intends to achieve compliance with the Commission's safeguards enumerated above and standards governing VRS. Per the safeguards noted above, in these plans VRS providers shall specify the following:

• A description of the screening process used to select CAs for the at-home call handling program;

• A description of specific training to be provided for at-home CAs;

• A description of the protocols and CA expectations developed for the at-home call handling program;

• A description of the grounds for dismissing a CA from the at-home program and the process for such termination in the event that the CA fails to adhere to applicable requirements;

• A description of all steps that will be taken to install a workstation in a CA's home, including evaluations that will be performed to ensure all workstations are sufficiently secure and equipped to prevent eavesdropping and outside interruptions;

• A description of the monitoring technology to be used by the provider to ensure that off-site supervision approximates the level of supervision at the provider's call center;

• An explanation of how the provider's workstations will connect to the provider's network, including how they will be integrated into the call center routing, distribution, tracking, and support systems, and how the provider will ensure system redundancy in the event of service disruptions in at-home workstations;

• A signed certification by an officer of the provider that the provider will conduct random and unannounced inspections of at least five percent (5%) of all at-home workstations during the pilot program; and

• The provider's commitment to comply with all other safeguards enumerated above and Commission rules governing TRS.

40. CGB, in consultation with OMD, will approve plans that demonstrate that the provider will fully comply with the Commission's standards and safeguards. Such approval may be canceled if the provider falls out of such compliance at any time. In addition, providers may be subject to withholding, forfeitures, and penalties for noncompliant minutes handled by at-home workstations, as is the case for non-compliant minutes handled by call centers.

41. Data Collection. Participating providers will be required to submit to the TRS Fund administrator, with their monthly requests for compensation for minutes handled from both call centers and at-home workstations, the following data for each month of the pilot program:

• The call center ID and full street address (number, street, city, state, and zip code) for each at-home workstation and the CA ID number for each individual handling VRS calls from that workstation; and

• The location and call center IDs of call centers providing supervision for at-home workstations, plus the names of persons at such call centers responsible for oversight of these workstations.

42. In addition to these monthly reports, the Commission requires participants to submit, no later than seven months after the start of the program, a report covering the first six months of their individual pilot programs containing the following information:

• A description of the actual screening process used to select CAs for the at-home call handling program;

• Copies of training materials provided to at-home CAs;

• Copies of written protocols used for CAs working from home;

• The total number of CAs handling VRS calls from at-home workstations over the first six months of the program;

• The number of 911 calls handled by the provider's at-home workstations;

• A description and copies of any surveys or evaluations taken of CAs concerning their experience using at-home workstations and participating in an at-home call handling program;

• The total number of CAs terminated from the program;

• The total number of complaints, if any, submitted to the provider regarding its at-home call handling program or calls handled by at-home CAs;

• The total number of on-site inspections of at-home workstations conducted, along with the dates and locations of such inspections;

• A description of the monitoring technology used to monitor CAs working at home and an analysis of the experience of supervisors overseeing at-home CAs compared to overseeing CAs in a call center;

• Copies of any reports produced by tracking software and a description explaining how the provider analyzed the reports for anomalies; and

• Detailed documentation of costs incurred in the use of at-home workstations, including any costs associated with CA recruitment, training and compensation, engineering and technical set-up (including workstation set-up), and administrative and management support (including oversight, evaluation, and recording).

43. In light of these information reporting requirements, during the pilot program the Commission does not require VRS providers to include redundant data pertaining to at-home call handling workstations in semi-annual call center reports and in call center change notifications under the Commission's existing rules. See 47 CFR 64.604(c)(5)(iii)(N)(2).

44. The Commission acknowledges the concerns of some commenters about the costs that may be associated with safeguards required for at-home call handling. However, the Commission's action today authorizes, rather than mandates, participation in the at-home pilot program. Accordingly, each VRS provider has the opportunity to assess for itself whether the costs of implementing this practice—and the requisite safeguards—outweigh its benefits. Additionally, the Commission believes that there may be some cost savings associated with implementing at-home interpreting. The Commission is hopeful that the data it collects during the pilot program will test the accuracy of this assumption and provide comprehensive information about the costs and benefits of allowing at-home workstations. The Commission concludes that if implemented with safeguards, the benefits of a pilot at-home interpretation program may outweigh its costs and warrant lifting the prohibition against this feature for a one-year period. The Commission will evaluate the value and effectiveness of this program at the conclusion of this period to make a determination on its continuation.

Legal Authority for Trials of Skills-Based Routing and Deaf Interpreters, and Pilot Program for At-Home Interpreting

45. The Commission concludes it has authority under 47 U.S.C. 225 to conduct trials of skills-based routing and the use of deaf interpreters, and to establish a pilot program for at-home interpreting. Section 225 of the Act defines TRS as services that enable individuals with hearing and speech disabilities to engage in communication in a manner that is functionally equivalent to voice communications service, directs the Commission to ensure that such services are available to the extent possible and the most efficient manner, and authorizes the Commission to prescribe regulations to implement section 225 of the Act, including functional requirements, guidelines, operational procedures, and minimum standards. 47 U.S.C. 225(a)(3), (b)(1), (d)(1), (d)(1)(A), (B). The record indicates that the use of skills-based routing, deaf interpreters, and at-home interpreting may improve the functional equivalence and efficiency of VRS. The data gathered from these trials and pilot program will enable the Commission to more fully assess these benefits as well as any additional costs resulting from such practices.

Final Regulatory Flexibility Analysis

46. As required by the Regulatory Flexibility Act of 1980 (RFA), as amended, the Commission incorporated an Initial Regulatory Flexibility Analysis (IRFA) into each of the Further Notices of Proposed Rulemaking. The Commission sought written public comment on the proposals in the 2013 VRS FNPRM and the 2015 VRS FNPRM, including comment on the two IRFAs. No comments were received on either IRFA.

Need for, and Objectives of, the Proposed Rules

47. Document FCC 17-26 makes rule changes to improve the functional equivalence of VRS by approving, pursuant to Commission authority under 47 U.S.C. 225, eight-month trials for: (a) skills-based routing by which VRS calls can be routed to a CA who specializes in legal, medical or technical terminology; and (b) the use of deaf interpreters who work in conjunction with hearing interpreters in special situations, such as when a caller has limited signing ability. Document FCC 17-26 also: (a) Modifies the formula for calculating the speed of answer so that the measured wait time does not end until the call is answered by a CA—i.e., not when the call is put on hold, placed in a queue, or connected to an IVR system; (b) permits the assignment of iTRS numbers to hearing individuals who know ASL to communicate directly with VRS users through point-to-point video service without the use of a CA; and (c) authorizes, pursuant to Commission authority under 47 U.S.C. 225, a twelve-month pilot program for at-home VRS call handling, subject to requirements, including training, having secure workstations in a separate room, monitoring, and reporting to the Commission on the number of CAs working from home, their locations, and the minutes of use, which are necessary to protect to the privacy of VRS users and prevent waste, fraud, and abuse.

Summary of Significant Issues Raised by Public Comments in Response to the IRFA

48. No comments were filed in response to either IRFA.

Small Entities Impacted

49. The rules adopted in document FCC 17-26 will affect obligations of VRS Providers. These services can be included within the broad economic category of All Other Telecommunications. Five providers currently receive compensation from the TRS Fund for providing VRS: ASL Services Holdings, LLC; CSDVRS, LLC; Convo Communications, LLC; Purple Communications, Inc.; and Sorenson Communications, Inc.

Description of Projected Reporting, Recordkeeping, and Other Compliance Requirements

50. The two trials—for skills-based routing and deaf interpreters—are voluntary. There are some recordkeeping, reporting and other compliance requirements associated with the trials, but those requirements apply only if a VRS provider decides to engage in a trial.

51. The long-term rules adopted in the document FCC 17-26 have minor compliance requirements. First, the modification for measuring the speed-of-answer only requires VRS providers to make minor adjustments to their automated methods of keeping records of how fast calls are answered. Second, the assignment of iTRS numbers to hearing individuals who can sign is essentially an extension of the VRS providers' existing obligation to collect and maintain the required data to facilitate the assignment and usage of such numbers by VRS callers and to prevent waste, fraud, and abuse. Finally, although document FCC 17-26 includes regulatory requirements associated with a pilot program for at-home VRS call handling, including training, having secure workstations in a separate room, monitoring, and reporting to the Commission on the number of CAs working from home, their locations, and the minutes of use, such requirements are necessary to protect the privacy of users and prevent waste, fraud, and abuse.

Steps Taken To Minimize Significant Impact on Small Entities, and Significant Alternatives Considered

52. The skills-based routing trial and the trial of deaf interpreters are voluntary, thereby minimizing the potential recordkeeping, reporting, and compliance requirements. Even for VRS providers that choose to participate in the trials, the VRS providers will be designing their own trials; therefore, they will control the sizes of their trials and the corresponding compliance impacts. Moreover, the proposal for a skills-based routing trial was initially made jointly by all of the VRS providers in 2015, and many of the reporting requirements for both trials have been suggested by the smaller VRS providers.

53. The new rules concerning speed of answer evolved from a proposal to increase the speed-of-answer requirement. To address concerns raised by the VRS providers of having to comply with an increased speed of answer without receiving corresponding increases in their compensation, the Commission decided not to change the speed of answer at this time. The small change in the methodology for calculating speed-of-answer will have minimal impact on the VRS providers.

54. The authorization to provide iTRS numbers to hearing individuals will have similar proportional impact on large and small VRS providers. The data gathering and recordkeeping associated with the provision of such numbers is basically an extension of the VRS providers' current roles in providing iTRS numbers to VRS users. The costs of number assignments, back-office services, and the like shall be handled in the same manner as comparable cost functions performed in connection with number assignment and point-to-point communications for registered VRS users.

55. The regulatory requirements associated with the pilot program for at-home VRS call handling, including training, having secure workstations in a separate room, monitoring, and reporting to the Commission on the number of CAs working from home, their locations, and the minutes of use, are necessary to protect the privacy of users and prevent waste, fraud, and abuse. The VRS providers will be in control of the number of such CAs working at home, and a VRS provider can decide not to allow any CAs to work at home. The costs of setting up the necessary workstations and the associated training, monitoring, reporting, etc. shall be handled in a manner similar to comparable functions performed at the VRS providers' call centers.

56. No commenters raised other alternatives that would lessen the impact of any of these requirements on small entities vis-à-vis larger entities.

Federal Rules Which Duplicate, Overlap, or Conflict With, the Commission's Proposals

57. None.

Ordering Clauses

Pursuant to sections 1, 2, 225, and 251 of the Communications Act of 1934, as amended, 47 U.S.C. 151, 152, 225, 251, document FCC 17-26 is adopted, and part 64 of title 47 is amended.

The Commission's Consumer and Governmental Affairs Bureau, Reference Information Center, shall send a copy of document FCC 17-26, including the Final Regulatory Flexibility Analysis, to the Chief Counsel for Advocacy of the Small Business Administration.

List of Subjects in 47 CFR Part 64

Individuals with disabilities, Telecommunications, Telecommunications relay services, Video relay services.

Federal Communications Commission.
Marlene H. Dortch,
Secretary.

Final Rules

For the reasons discussed in the preamble, the Federal Communications Commission amends 47 CFR part 64 as follows:

PART 64—MISCELLANEOUS RULES RELATING TO COMMON CARRIERS

1. The authority citation for part 64 continues to read as follows:

Authority: 47 U.S.C. 154, 225, 254(k), 403(b)(2)(B), (c), 715, Pub. L. 104-104, 110 Stat. 56. Interpret or apply 47 U.S.C. 201, 218, 222, 225, 226, 227, 228, 254(k), 616, 620, and the Middle Class Tax Relief and Job Creation Act of 2012, Pub. L. 112-96, unless otherwise noted.

2. Amend § 64.601 by adding paragraphs (a)(47) through (49) to read as follows:

§ 64.601 Definitions and provisions of general applicability.

(a) * * *

(47) Hearing point-to-point video user. A hearing individual who has been assigned a ten-digit NANP number that is entered in the TRS Numbering Directory to access point-to-point service.

(48) Point-to-point video service. A service that enables a user to place and receive non-relay video calls without the assistance of a CA.

(49) Point-to-point video call. A call placed via a point-to-point video service.

* * * * *

3. Amend § 64.604 by revising paragraphs (b)(2)(iii)(B) and (b)(4)(iii) and adding paragraphs (b)(8) and (c)(5)(iii)(L)(6) to read as follows:

§ 64.604 Mandatory minimum standards.

* * * * *

(b) * * *

(2) * * *

(iii) * * *

(B) VRS CA service providers must meet the speed of answer requirements for VRS providers as measured from the time a VRS call reaches facilities operated by the VRS CA service provider to the time when the call is answered by a CA—i.e., not when the call is put on hold, placed in a queue, or connected to an IVR system.

* * * * *

(4) * * *

(iii) A VRS CA may not handle VRS calls from a location primarily used as his or her home unless as part of the voluntary at-home VRS call handling pilot program as provided for by paragraph (b)(8) of this section.

* * * * *

(8) Voluntary at-home VRS call handling pilot program. Any VRS provider that holds a conditional or full certification to receive compensation from the TRS Fund pursuant to § 64.606 as of March 23, 2017 may participate in the voluntary at-home VRS call handling pilot program. The pilot program shall be in effect for one year, for service provided by participants beginning November 1, 2017, and ending October 31, 2018.

(i) Notification of intent to participate. A VRS provider seeking to participate in the pilot program shall notify the Commission of its intent to participate on or before September 1, 2017, and shall include in such notification a detailed plan demonstrating that the VRS provider intends to achieve compliance with the mandatory minimum standards applicable to VRS and with the safeguards enumerated in this paragraph (b)(8). Plans submitted by VRS providers shall specify the following:

(A) A description of the screening process used to select CAs for the at-home call handling program;

(B) A description of specific training to be provided for at-home CAs;

(C) A description of the protocols and CA expectations developed for the at-home call handling program;

(D) A description of the grounds for dismissing a CA from the at-home program and the process for such termination in the event that the CA fails to adhere to applicable requirements;

(E) A description of all steps that will be taken to install a workstation in a CA's home, including evaluations that will be performed to ensure all workstations are sufficiently secure and equipped to prevent eavesdropping and outside interruptions;

(F) A description of the monitoring technology to be used by the provider to ensure that off-site supervision approximates the level of supervision at the provider's call center;

(G) An explanation of how the provider's workstations will connect to the provider's network, including how they will be integrated into the call center routing, distribution, tracking, and support systems, and how the provider will ensure system redundancy in the event of service disruptions in at-home workstations;

(H) A signed certification by an officer of the provider that the provider will conduct random and unannounced inspections of at least five percent (5%) of all at-home workstations during the pilot program; and

(I) A commitment to comply with all other safeguards enumerated in this paragraph (b)(8) and the applicable rules in this chapter governing TRS.

(ii) Authorization for at-home VRS call handling. Upon Commission approval of a VRS provider's plan, the provider may conduct at-home VRS call handling during the period of the pilot program. The Commission may cancel such approval if a VRS provider fails to comply with any of the safeguards enumerated in this paragraph (b)(8) or other applicable mandatory minimum TRS standards. VRS providers may be subject to withholding, forfeitures, and penalties for noncompliant minutes handled by at-home workstations, as is the case for non-compliant minutes handled by call centers.

(iii) Limit on minutes handled. In any month of the program, a VRS provider may be compensated for minutes served by at-home CA workstations up to a maximum of either thirty percent (30%) of a VRS provider's total minutes for which compensation is paid in that month or thirty percent (30%) of the provider's average monthly minutes for the 12 months ending October 31, 2017, whichever is greater.

(iv) Personnel safeguards. Before permitting CAs to handle VRS calls from at-home workstations, VRS providers shall:

(A) Ensure that each CA handling calls from an at-home workstation has the experience, skills, and knowledge necessary to effectively interpret from these workstations, including a thorough understanding of the TRS mandatory minimum standards and at least three years of experience as a call center CA.

(B) Establish protocols for the handling of calls from at-home workstations (to the extent there are additional protocols that differ from those applicable to the provider's call centers) and provide training to at-home CAs on such protocols, in addition to all applicable training that is required of CAs working from call centers.

(C) Provide each CA working from an at-home workstation equivalent support to that provided to CAs working from call centers, as needed to effectively handle calls, including, where appropriate, the opportunity to team interpret and consult with supervisors, and ensure that supervisors are readily available to a CA working from home to resolve problems that may arise during a relay call, such as difficulty in understanding a VRS user's signs, the need for added support for emergency calls, and relieving a CA in the event of the CA's sudden illness.

(D) Establish grounds for dismissing a CA from the at-home VRS call handling program (i.e., for noncompliance with the standards and safeguards enumerated in this paragraph (b)(8) and the rules governing TRS), including a process for such termination in the event that the CA fails to adhere to these requirements, and provide such grounds and process in writing to each CA participating in the pilot program.

(E) Obtain from each CA handling calls from an at-home workstation a certification in writing of the CA's understanding of and commitment to complying with the rules in this chapter governing TRS, including rules governing caller confidentiality and fraud prevention, and the CA's understanding of the reasons and process for dismissal from the at-home VRS call handling program.

(v) Technical and environmental safeguards. Participating VRS providers shall ensure that each home environment used for at-home VRS call handling enables the provision of confidential and uninterrupted services to the same extent as the provider's call centers and is seamlessly integrated into the provider's call routing, distribution, tracking, and support systems. VRS providers shall ensure that each at-home workstation:

(A) Resides in a separate, secure location in the CA's home, where access is restricted solely to the CA;

(B) Allows a CA to use all call-handling technology to the same extent as other CAs, including the ability to transition a non-emergency call to an emergency call, engage in virtual teaming with another CA, and allow supervisors to communicate with and oversee calls;

(C) Is capable of supporting VRS in compliance with the applicable mandatory minimum technical and emergency call handling standards to the same degree as these are available at call centers, including the ability to route VRS calls around individual CA workstations in the event the CA experiences a network outage or other service interruption;

(D) Is equipped with an effective means to prevent eavesdropping, such as white noise emitters or soundproofing, and to ensure that interruptions from noises outside the room do not adversely affect a CA's ability to interpret a call accurately and effectively; and

(E) Is connected to the provider's network over a secure connection to ensure caller privacy.

(vi) Monitoring and oversight obligations. VRS providers shall:

(A) Inspect and approve each at-home workstation before activating a CA's workstation for use;

(B) Assign a unique call center identification number (ID) to each VRS at-home workstation and use this call center ID to identify all minutes handled from each such workstation in its call detail records submitted monthly to the TRS Fund administrator;

(C) Equip each at-home workstation with monitoring technology sufficient to ensure that off-site supervision approximates the level of supervision at the provider's call center, including the ability to monitor both ends of a call, i.e., video and audio, to the same extent as is possible in a call center, and regularly analyze the records and data produced by such monitoring to proactively address possible waste, fraud, and abuse;

(D) Keep all records pertaining to at-home workstations, including the data produced by any at-home workstation monitoring technology, except for any data that records the content of an interpreted conversation, for a minimum of five years; and

(E) Conduct random and unannounced inspections of at least five percent (5%) of all at-home workstations during the pilot program.

(vii) Commission audits and inspections. At-home workstations and workstation records shall be subject to review, audit, and inspection by the Commission and the Fund administrator and unannounced on-site inspections by the Commission to the same extent as other call centers and call center records subject to the rules in this chapter.

(viii) Monthly reports. Each participating VRS provider shall report the following information to the TRS Fund administrator with its monthly requests for compensation:

(A) The call center ID and full street address (number, street, city, state, and zip code) for each at-home workstation and the CA ID number for each individual handling VRS calls from that workstation; and

(B) The location and call center IDs of call centers providing supervision for at-home workstations, plus the names of persons at such call centers responsible for oversight of such workstations.

(ix) Six-month report. Each participating VRS provider shall submit, no later than seven months after the start of its program, a report covering the first six months of its program, containing the following information:

(A) A description of the actual screening process used to select CAs for the at-home call handling program;

(B) Copies of training materials provided to at-home CAs;

(C) Copies of written protocols used for CAs working from home;

(D) The total number of CAs handling VRS calls from at-home workstations over the first six months of the program;

(E) The number of 911 calls handled by the provider's at-home workstations;

(F) A description and copies of any surveys or evaluations taken of CAs concerning their experience using at-home workstations and participating in an at-home call handling program;

(G) The total number of CAs terminated from the program;

(H) The total number of complaints, if any, submitted to the provider regarding its at-home call handling program or calls handled by at-home CAs;

(I) The total number of on-site inspections conducted of at-home workstations and the date and location of each inspection;

(J) A description of the monitoring technology used to monitor CAs working at home and an analysis of the experience of supervisors overseeing at-home CAs compared to overseeing CAs in a call center;

(K) Copies of any reports produced by tracking software and a description explaining how the provider analyzed the reports for anomalies; and

(L) Detailed documentation of costs incurred in the use of at-home workstations, including any costs associated with CA recruitment, training, and compensation, engineering and technical set-up (including workstation set-up), and administrative and management support (including oversight, evaluation, and recording).

(c) * * *

(5) * * *

(iii) * * *

(L) * * *

(6) If the VRS provider submits a waiver request asserting exigent circumstances affecting one or more call centers that will make it highly improbable that the VRS provider will meet the speed-of-answer standard for call attempts occurring in a period of time identified by beginning and ending dates, the Fund administrator shall not withhold TRS Fund payments for a VRS provider's failure to meet the speed-of-answer standard during the identified period of time while the waiver request is under review by the Commission. In the event that the waiver request is denied, the speed-of-answer requirement is not met, and payment has been made to the provider from the TRS Fund for the identified period of time or a portion thereof, the provider shall return such payment to the TRS Fund for any period of time when the speed-of-answer requirement was not met.

* * * * *

4. Amend § 64.611 by:

a. Adding paragraph (a)(5);

b. Removing the “and” at the end of paragraph (g)(1)(v);

c. Removing the period at the end of paragraph (g)(1)(vi) and adding “; and” in its place;

d. Adding paragraph (g)(1)(vii); and

e. Revising paragraph (c)(2)(i).

The additions and revision read as follows:

§ 64.611 Internet-based TRS registration.

(a) * * *

(5) Assignment of iTRS Numbers to Hearing Point-to-Point Video Users. (i) Before assigning an iTRS telephone number to a hearing individual, a VRS provider shall obtain from such individual, the individual's full name, residential address, date of birth, and a written certification, attesting that the individual:

(A) Is proficient in sign language;

(B) Understands that the iTRS number may be used only for the purpose of point-to-point communication over distances with registered VRS users; and

(C) Understands that such iTRS number may not be used to access VRS.

(ii) Before assigning an iTRS telephone number to a hearing individual, a VRS provider also shall obtain the individual's consent to provide the information required by this paragraph (a)(5) to the TRS User Registration Database. Before obtaining such consent, the VRS provider, using clear, easily understood language, shall describe the specific information to be provided, explain that the information is provided to ensure proper administration of the TRS program and inform the individual that failure to provide consent will result in denial of service. VRS providers shall obtain and keep a record of affirmative acknowledgment of such consent by every hearing point-to-point video user to whom an iTRS number is assigned.

(iii) The certification required by paragraph (a)(5)(i) of this section must be made on a form separate from any other agreement or form, and must include a separate signature specific to the certification. For the purposes of this rule, an electronic signature, defined by the Electronic Signatures in Global and National Commerce Act, as an electronic sound, symbol, or process, attached to or logically associated with a contract or other record and executed or adopted by a person with the intent to sign the record, has the same legal effect as a written signature. For the purposes of this rule, an electronic record, defined by the Electronic Signatures in Global and National Commerce Act as a contract or other record created, generated, sent, communicated, received, or stored by electronic means, constitutes a record.

(iv) Before commencing service to any hearing point-to-point video user to whom a VRS provider assigns an iTRS number on or after the TRS User Registration Database is operational, a VRS provider shall submit to the TRS User Registration Database the information listed in paragraph (a)(5)(i) of this section and the following additional information:

(A) The ten-digit telephone number assigned in the TRS Numbering Directory to the hearing point-to-point user;

(B) The VRS provider's name and the date of service initiation; and

(C) The date on which a ten-digit number was assigned to or removed from a hearing point-to-point user.

(v) For all other hearing point-to-point video users to whom a VRS provider has assigned an iTRS number, the VRS provider shall transmit the information required by paragraph (a)(5)(iv) of this section within 60 days after the TRS User Registration Database is operational.

(vi) Upon the termination of service to any hearing point-to-point video user, a VRS provider shall submit to the TRS User Registration Database the date of termination of service.

(vii) A VRS provider shall maintain the confidentiality of the information about hearing individuals required by this paragraph (a)(5) and may not disclose such information except as required by law or regulation.

(viii) Before commencing service to a hearing point-to-point video user who is transferring point-to-point video service from another VRS provider, a VRS provider shall notify the TRS User Registration Database of such transfer and shall obtain and submit a properly executed certification under paragraph (a)(5)(i) of this section.

(ix) Hearing individuals who are assigned iTRS numbers under this paragraph (a)(5) shall not be deemed registered VRS users. VRS providers shall not be compensated and shall not seek compensation from the TRS Fund for any VRS calls to or from such iTRS numbers.

* * * * *

(c) * * *

(2) * * *

(i) Take such steps as are necessary to cease acquiring routing information from any VRS, IP Relay, or hearing point-to-point video user that ports his or her number to another VRS or IP Relay provider or otherwise selects a new default provider;

* * * * *

(g) * * *

(1) * * *

(vii) If the provider assigns iTRS numbers to hearing point-to-point video users, an explanation that hearing point-to-point video users will not be able to place an emergency call.

* * * * *

5. Amend § 64.613 by revising paragraphs (a)(1) and (2) to read as follows:

§ 64.613 Numbering directory for Internet-based TRS users.

(a) * * *

(1) The TRS Numbering Directory shall contain records mapping the geographically appropriate NANP telephone number of each Registered Internet-based TRS User and hearing point-to-point video user to a unique Uniform Resource Identifier (URI).

(2) For each record associated with a VRS or hearing point-to-point video user's geographically appropriate NANP telephone number, the URI shall contain the IP address of the user's device. For each record associated with an IP Relay user's geographically appropriate NANP telephone number, the URI shall contain the user's user name and domain name that can be subsequently resolved to reach the user.

* * * * *

6. Amend § 64.615 by revising paragraphs (a)(3)(i) introductory text and (a)(3)(i)(A) to read as follows:

§ 64.615 TRS User Registration Database and administrator.

(a) * * *

(3) * * *

(i) Each VRS provider shall request that the administrator of the TRS User Registration Database remove from the TRS User Registration Database user information for any registered VRS user or hearing point-to-point video user:

(A) Who informs its default provider that it no longer wants use of a ten-digit number for TRS or (in the case of a hearing point-to-point video user) for point-to-point video service; or

* * * * *

7. Amend § 64.621 by revising paragraph (a)(1) to read as follows:

§ 64.621 Interoperability and portability.

(a) * * *

(1) All VRS users and hearing point-to-point video users must be able to place a VRS or point-to-point video call through any of the VRS providers' services, and all VRS providers must be able to receive calls from, and make calls to, any VRS or hearing point-to-point video user.

* * * * *

8. Revise § 64.630 to read as follows:

§ 64.630 Applicability of change of default TRS provider rules.

(a) Sections 64.630 through 64.636 governing changes in default TRS providers shall apply to any provider of IP Relay or VRS eligible to receive payments from the TRS Fund.

(b) For purposes of §§ 64.630 through 64.636, the term iTRS users is defined as any individual that has been assigned a ten-digit NANP number from the TRS Numbering Directory for IP Relay, VRS, or point-to-point video service.

9. Amend § 64.5101 by revising paragraph (b) to read as follows:

§ 64.5101 Basis and purpose.

* * * * *

(b) Purpose. The purpose of the rules in this subpart is to implement customer proprietary network information protections for users of telecommunications relay services and point-to-point video service pursuant to sections 4, 222, and 225 of the Communications Act of 1934, as amended, 47 U.S.C. 154, 222, 225.

10. Amend § 64.5103 by revising paragraph (m) to read as follows:

§ 64.5103 Definitions.

* * * * *

(m) Point-to-point service. The term “point-to-point service” means a service that enables a VRS or hearing customer to place and receive non-relay calls without the assistance of a communications assistant over the facilities of a VRS provider using VRS access technology. Such calls are made by means of ten-digit NANP numbers registered in the TRS Numbering Directory and assigned to VRS customers and hearing point-to-point customers by VRS providers. The term “point-to-point call” shall refer to a call placed via a point-to-point service.

* * * * *

[FR Doc. 2017-07155 Filed 4-12-17; 8:45 am]

BILLING CODE 6712-01-P